ENVIRONMENTAL PROTECTION AGENCY

[OPP-00734A; FRL-6809-1]

Workshop Series on Bt Corn Insect Resistance Management Framework Development; Notice of Public Meeting; Change of Meeting Date

AGENCY: Environmental Protection Agency (EPA).

ACTION: Notice of public meeting.

SUMMARY: In the Federal Register of August 31, 2001 (66 FR 45985) (FRL-6797-8), EPA announced that it would hold a series of workshops focusing on Bt corn insect resistance management (IRM). This notice announces a change in the date for the meeting originally scheduled for October 29 and 30, 2001. The meeting will now be held on November 5 and 6, 2001.

DATES: The meeting scheduled for October 29 and 30, 2001, will now be held on November 5 and 6, 2001, from 8 a.m. to 5 p.m. Requests for participation in the meeting must be received on or before November 2, 2001.

ADDRESSES: The meeting will be held at EPA, Crystal Station, Room C, 2800 Crystal Drive, Arlington, VA 22202. Space is limited. Requests to participate may be submitted by mail, electronically, or in person. Please follow the detailed instructions for each method as provided in Unit III. of the SUPPLEMENTARY INFORMATION of the originally published notice of August 31, 2001. To ensure proper receipt by EPA, your request must identify docket control number OPP-00734A in the subject line on the first page of your response.

FOR FURTHER INFORMATION CONTACT: John Glaser; National Risk Management Research Laboratory, Environmental Protection Agency, 26 W. King Dr., Cincinnati, OH 45268; telephone number: (513) 569-7568; fax number: (513) 487-2511; e-mail address: glaser.john@epa.gov.

SUPPLEMENTARY INFORMATION: This action is directed to the public in general. This action may, however, be of interest to: Registrants and users of Bt corn under the Federal Food, Drug, and Cosmetic Act (FFDCA), or the Federal Insecticide, Fungicide, and Rodenticide Act (FIFRA) as well as non-users of Bt corn and the public. Since other entities may also be interested, the Agency has not attempted to describe all the specific entities that may be affected by this action. If you have any questions regarding the applicability of this action to a particular entity, consult the person listed under FOR FURTHER INFORMATION CONTACT.

List of Subjects

Environmental protection, Bt corn.

Dated: October 19, 2001.
Janet L. Andersen,
Director, Biopesticides and Pollution Prevention Division, Office of Pesticide Programs.

[FR Doc. 01-27008 Filed 10-23-01; 2:38 pm]

BILLING CODE 6560-50-S